DEPARTMENT OF COMMERCE

National Oceanic and Atmospheric Administration

[RTID 0648-XB050]

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Climate and Communities Core Team (CCCT) is holding an online meeting, which is open to the public.

DATES: The online meeting will be held Friday, May 21, 2021, beginning at 1:30 p.m., Pacific Time and continuing until business is completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

SUPPLEMENTARY INFORMATION: At this meeting, the CCCT will discuss the drafting of a final report for the Fishery Ecosystem Plan Climate and Communities Initiative. The report will be based on a review of information generated during the Initiative and make recommendations on tools, products, and processes to build consideration of, and adaption to, climate change into ongoing Council processes. The report is scheduled for Council consideration at its September 2021 meeting. The CCCT will also discuss additional activities, including future meetings, related to completion of the report and the Initiative.

A meeting agenda will be posted on the Pacific Council website at least one week before the meeting date.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt, (kris.kleinschmidt@noaa.gov; (503) 820-2412), at least 10 business days prior to the meeting date.

Dated: April 29, 2021.
Tracey L. Thompson,
Acting Deputy Director, Office of Sustainable Fisheries, National Marine Fisheries Service.

[FR Doc. 2021-09418 Filed 5-4-21; 8:45 am]

BILLING CODE 3510-22-P